DEPARTMENT OF AGRICULTURE

Forest Service

Superior Resource Advisory Committee

AGENCY: Forest Service, USDA.

ACTION: Notice of meeting.

SUMMARY: The Superior Resource Advisory Committee will meet in Duluth, Minnesota. The committee is meeting as authorized under the Secure Rural Schools and Community Self-Determination Act (Pub. L. 110-343) and in compliance with the Federal Advisory Committee Act. The purpose of the meeting is to review and make decisions on proposals requesting funds from Title II of the Secure Rural School Act. The schedule for soliciting the next round of proposals will be set.

DATES: The meeting will be held on Thursday, November 4, 2010, 9 a.m.

ADDRESSES: The meeting will be held at the EPA office, 6201 Congdon Blvd, Duluth, MN 55804. Written comments should be sent to Superior National Forest, RAC, 8901 Grand Ave Place, Duluth, MN 55808. Comments may also be sent via e-mail to Lradosevichcraig@fs.fed.us, or via facsimile to 218-626-4312.

All comments, including names and addresses when provided, are placed in the record and are available for public inspection and copying. The public may inspect comments received at Superior National Forest Headquarters. This meeting is open to the public.

FOR FURTHER INFORMATION CONTACT: Lisa Radosevich-Craig, Partnership Coordinator & Tribal Liaison, Superior National Forest Headquarters, 218-626-4336, Lradosevichcraig@fs.fed.us.

Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: Review of Secure Rural Schools Title II Rules and Operational Guidelines; Review and Selection of Proposals; Process and Timeline for Next Round of Request for Proposals; and a Public Forum, The agenda and any applicable documents may be previewed at http://www.fs.fed.us/R9/superior. Persons who wish to bring related matters to the attention of the Committee may file written statements with the Committee staff before or after the meeting. A public input session will be provided and individuals who made written requests by Monday, November 1, 2010 will have the opportunity to address the Committee at those sessions.

Dated: October 13, 2010.
Mark Hummel,
Deputy Forest Supervisor, Acting Forest Supervisor, Superior National Forest, Duluth, Minnesota.

[FR Doc. 2010-26439 Filed 10-21-10; 8:45 am]

BILLING CODE 3410-DT-M